DEPARTMENT OF ENERGY

Federal Energy Regulatory Commission

[Project No., 13010-002; Project No., 14272-000]

Mississippi 8 Hydro, LLC; FFP Project 98, LLC, ; Notice Announcing Filing Priority for Preliminary Permit Applications

On April 23, 2012, the Commission held a drawing to determine priority between competing preliminary permit applications with identical filing times. In the event that the Commission concludes that neither of the applicants' plans is better adapted than the other to develop, conserve, and utilize in the public interest the water resources of the region at issue, the priority established by this drawing will serve as the tiebreaker. Based on the drawing, the order of priority is as follows:

1. Mississippi 8 Hydro, LLC—Project No. 13010-002.

2. FFP Project 98, LLC—Project No. 14272-000.

Dated: April 24, 2012.
Nathaniel J. Davis, Sr.,
Deputy Secretary.

[FR Doc. 2012-10402 Filed 4-30-12; 8:45 am]

BILLING CODE 6717-01-P